DEPARTMENT OF DEFENSE

Office of the Secretary

[Transmittal Nos. 11-23]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Mr. John Unglesbee, DSCA/DBO/CFM, (703) 601-6026.

The following is a copy of a letter to the Speaker of the House of Representatives, Transmittal 11-23 with attached transmittal and policy justification.

Dated: July 5, 2011.
Aaron Siegel,
Alternate OSD Federal Register Liaison Officer, Department of Defense.

BILLING CODE 5001-06-P

BILLING CODE 5001-06-C

Transmittal No. 11-23

Notice of Proposed Issuance of Letter of Offer Pursuant to Section 36(b)(1) of the Arms Export Control Act, as Amended

(i) Prospective Purchaser: Iraq

(ii) Total Estimated Value:

Major Defense Equipment* | $ 0 million
Other | 675 million
TOTAL | 675 million
* as defined in Section 47(6) of the Arms Export Control Act.

(iii) Description and Quantity or Quantities of Articles or Services Under Consideration for Purchase: follow-on support and maintenance of multiple aircraft systems that include TC-208s, Cessna 172s, AC-208s, T-6As, and King Air 350s. Included are ground stations, repair and return, spare and repair parts, support equipment, publications and technical data, personnel training and training equipment, U.S. Government and contractor engineering, logistics, and technical support services, and other related elements of logistics support.

(iv) Military Department: Air Force (QAF Amd #4, QAH, Amd #4)

(v) Prior Related Cases, if any:

FMS case QAS-$33M-21Sep10

FMS case SAD-$110M-26May09

FMS case QAH-$24M-20Feb09

FMS case QAF-$12M-5Nov08

(vi) Sales Commission, Fee, etc., Paid, Offered, or Agreed to be Paid: None

(vii) Sensitivity of Technology Contained in the Defense Article or Defense Services Proposed to be Sold: None

(viii) Date Report Delivered to Congress:

POLICY JUSTIFICATION

Iraq—Follow-On Support and Maintenance of Multiple Aircraft Systems

The Government of Iraq has requested a possible sale of follow-on support and maintenance of multiple aircraft systems that include TC-208s, Cessna 172s, AC-208s, T-6As, and King Air 350s. Included are ground stations, repair and return, spare and repair parts, support equipment, publications and technical data, personnel training and training equipment, U.S. Government and contractor engineering, logistics, and technical support services, and other related elements of logistics support. The estimated cost is $675 million.

This proposed sale will contribute to the foreign policy and national security of the United States by helping to improve the security of a friendly country. This proposed sale directly supports the Iraq government and serves the interests of the Iraqi people and the U.S.

The proposed sale will help the Iraqi government to maintain indigenous Intelligence Surveillance and Reconnaissance, training, and counter insurgency/counter-terrorism capabilities. As the drawdown of coalition forces continues, the Iraqi Air Force continues to develop a force capable of assuming the lead in providing for the security of the Iraqi people. The follow-on support will ensure the operational capability of the Iraqi Air Force and will allow it to sustain itself in its efforts to establish stability in Iraq.

The proposed sale of this equipment and support will not alter the basic military balance in the region.

The prime contractors will be Hawker Beechcraft Corporation in Wichita, Kansas; Flight Safety International in Flushing, New York; Alliant Techsystems in Magna, Utah; L-3 Communications in New York, New York; and Integration Innovation, Inc. in Huntsville, Alabama. There are no known offset agreements proposed in connection with this potential sale.

Implementation of this proposed sale will not require the assignment of any additional U.S. Government or contractor representatives to Australia.

There will be no adverse impact on U.S. defense readiness as a result of this proposed sale.

[FR Doc. 2011-17241 Filed 7-8-11; 8:45 am]

BILLING CODE 5001-06-P